FEDERAL COMMUNICATIONS COMMISSION

[CG Docket No. 03-123; DA 07-2761]

Telecommunications Relay Services Applications for State Certification and Renewal of Current Certification Accepted Until October 1, 2007

AGENCY: Federal Communications Commission.

ACTION: Notice.

SUMMARY: In this document, the Commission announces that it will accept applications for the renewal of state telecommunications relay services (TRS) program certification. The Commission's rules provide that states may apply for a renewal of their certified state TRS program one year prior to the expiration of their current certification.

DATES: TRS applications for state certifications and renewal certifications will be accepted beginning July 26, 2007, and are due on or before October 1, 2007.

ADDRESSES: You may submit TRS State Certification applications identified by [CG Document No. 03-123], by any of the following methods:

• Federal eRulemaking Portal: http://www.regulations.gov. Follow the instructions for submitting electronic filings.

• Federal Communications Commission's Web Site: http://www.fcc.gov/cgb/ecfs/. Follow the instructions for submitting electronic filings.

• Parties who choose to file by paper should also submit their filings on diskette. These diskettes should be submitted, along with three paper copies, to: Pam Gregory, Consumer & Governmental Affairs Bureau, Disability Rights Office, 445 12th Street, SW., Room 3-C417, Washington, DC 20554. Such submission should be on a 3.5 inch diskette formatted in an IBM compatible format using Word 2003 or a compatible software. The diskette should be accompanied by a cover letter and should be submitted in “read only” mode and must be clearly labeled with the state's name, filing date and captioned “TRS Certification Application.” The label should also include the following phrase “Disk Copy—Not an Original”. Each diskette should contain only one party's pleadings, preferably in a single electronic file. In addition, electronic fillings must send diskette copies to the Commission's duplicating contractor at Portals II, 445 12th Street, SW., Room CY-CB402, Washington, DC 20554.

• People with Disabilities: Contact the FCC to request reasonable accommodations (accessible format documents, sign language interpreters, CART, etc.) by e-mail: FCC504@fcc.gov or phone (202) 418-0539 or TTY: (202) 418-0432.

For detailed instructions for submitting electronic filings and additional information on the rulemaking process, see the SUPPLEMENTARY INFORMATION section of this document.

FOR FURTHER INFORMATION CONTACT: Pam Gregory, Consumer & Government Affairs Bureau, at (202) 418-2498 (voice), (202) 418-1169 (TTY) or e-mail: pam.gregory@fcc.gov.

SUPPLEMENTARY INFORMATION: This is a summary of the Commission's document DA 07-2761, released June 22, 2007, in CG Docket No. 03-123. TRS State Certifications may be filed using: (1) The Commission's Electronic Comment Filing System (ECFS), (2) the Federal Government's eRulemaking Portal, or (3) by filing paper copies. See Electronic Filing of Documents in Rulemaking Proceedings, 63 FR 24121, May 1, 1998.

• Electronic Filers: Filings may be filed electronically using the Internet by accessing the ECFS: http://www.fcc.gov/cgb/ecfs/ or the Federal eRulemaking Portal: http://www.regulations.gov. Filers should follow the instructions provided on the Web site for submitting electronic filings.

• For ECFS filers, if multiple docket or rulemaking numbers appear in the caption of this proceeding, filers must transmit one electronic copy of the filing for each docket or rulemaking number referenced in the caption. In completing the transmittal screen, filers should include their full name, U.S. Postal Service mailing address, and the applicable docket or rulemaking number, which in this instance is CG Docket No. 03-123. Parties may also submit an electronic filing by Internet e-mail. To get filing instructions, filers should send an e-mail to: ecfs@fcc.gov, and include the following words in the body of the message, “get form <your e-mail address>.” A sample form and directions will be sent in response.

• Paper Filers: Parties who choose to file by paper must file an original and four copies of each filing. If more than one docket or rulemaking number appears in the caption in this proceeding, filers must submit two additional copies of each additional docket or rulemaking number. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial mail sent by overnight mail (other than U.S. Postal Service Express mail and Priority Mail) must be sent to 9300 East Hampton Drive, Capitol Heights, MD 20743.

• U.S. Postal Service first-class, Express, and Priority mail should be addressed to: 445 12th Street, SW., Washington, DC 20554.

A copy of document DA 07-2761 and any subsequently file documents in this matter will be available during regular business hours at the FCC Reference Center, Portals II, 445 12th Street, SW., Room CY-A257, Washington, DC 20554, (202) 418-0270. Document DA 07-2761 and any subsequently filed documents in this matter may also be purchased from the Commission's duplicating contractor at their Web site, www.bcpiweb.com, or call (800) 378-3160. TRS State Certification applications may also be found by searching on the Commission's Electronic Comment Filing System (ECFS) at: http://www.fcc.gov.cgb/ecfs (insert CG Docket No. 03-123 into the Proceeding block).

To request materials in accessible formats for people with disabilities (Braille, large print, electronic files, audio format), send and e-mail to: fcc504@fcc.gov or call the Consumer & Governmental Affairs Bureau at (202) 418-0530 (voice), (202) 418-0432 (TTY).

Synopsis

The Commission's rules for the provision of TRS, pursuant to Title IV of the Americans with Disabilities Act, 47 U.S.C. 225 of the Communications Act, are codified at 47 CFR 64.601-605 of the Commission's rules. Pursuant to 47 CFR 64.605(b) of the Commission's rules, a state desiring certification of its TRS program must establish that:

(1) The state program meets or exceeds all operational, technical, and functional minimum standards contained in 47 CFR 64.604 of the Commission's rules;

(2) The state program makes available adequate procedures and remedies for enforcing the state program; and

(3) Where a state program exceeds the mandatory minimum standards contained in § 64.604 of the Commission's rules, the state establishes that its program in no way conflicts with federal law.

Pursuant to 47 CFR 64.605(a) of the Commission's rules, documentation must be submitted through the state's office of the governor or other delegated executive office empowered to provide TRS. All documentation in support of the application must be submitted in narrative form, and must clearly describe the state program for implementing intrastate TRS, and the procedures and remedies for enforcing any requirements imposed by the state program. To the maximum extent possible, states should provide historical, statistical, and illustrative evidence demonstrating compliance with the Commission's TRS rules.

Upon receipt, the Commission will give public notice of state TRS certification applications and provide notification in the Federal Register, pursuant to 47 CFR 64.605(a) of the Commission's rules. Interested parties will be invited to comment on each application within a period of time set by the Commission. In the event that a state's application is opposed or incomplete, the Commission may contact the responsible state officer to seek further documentation. If it appears that a state program will not meet certification requirements, the Commission will send notice to the responsible state officer prior to July 26, 2008, giving the state an opportunity to demonstrate that it has taken, or will take measures to bring its program into compliance with the Commission rules by July 26, 2008.

The Commission will act to approve the applications for certification of states that demonstrate compliance with all applicable requirements of the Commission's rules on or before July 26, 2008. Approved certifications will be in effect for five (5) years until July 26, 2013 pursuant to 47 CFR 64.605(c) of the Commission's rules.

In the event a state does not apply for certification, the Commission will contact common carriers providing voice transmission service in that state to ensure that TRS service meeting the Commission minimum operational, functional and technical standards is available within their service areas. See 47 U.S.C. 225(c) of the Communications Act.

Federal Communications Commission.
Nicole McGinnis,
Deputy Chief, Consumer & Governmental Affairs Bureau.

[FR Doc. 07-3480 Filed 7-17-07; 8:45 am]

BILLING CODE 6712-01-M